DEPARTMENT OF THE INTERIOR

Bureau of Land Management

[OR-120-5101 ER-H019, GP2-0332]

Record of Decision; Coos County Natural Gas Pipeline, Coos County, OR

AGENCY: Bureau of Land Management, Interior.

ACTION: Notice of availability of Record of Decision.

SUMMARY: Pursuant to Section 102 of the National Environmental Policy Act of 1969, an Environmental Impact Statement (EIS) was prepared, by a third party contract, for the Bureau of Land Management (BLM), Coos Bay District Office. The EIS was prepared to analyze impacts and alternatives for the Coos County Board of Commissioners proposed natural gas transmission pipeline from near Roseburg in Douglas County, Oregon, to Coos Bay in Coos County, Oregon. The proposed project would result in granting Coos County a right-of-way for the construction, operation and maintenance of a 12 inch natural gas pipeline across approximately three miles of BLM-administered lands located in Coos and Douglas Counties, Oregon. The Final EIS was released for public review December 13, 2002. The Record of Decision (ROD) was signed by the Coos Bay District Manager on February 18, 2003, approving the proposed action and incorporating project design criteria and best management practices analyzed under the proposed action.

Copies of the ROD can be obtained from the Coos Bay District Office at Coos Bay District, BLM, 1300 Airport Lane, North Bend, OR 97459. The ROD may be examined at the Coos Bay District Office in North Bend, Oregon and local libraries. The ROD will also be available electronically at the BLM Coos Bay District Web site (http://www.or.blm.gov/coosbay) and the Coos County Web site (http://www.co.coos.or.us). Additionally, a copy of the ROD will be mailed to individuals, agencies or companies that commented during the scoping process, or on the Draft and Final EIS.

EFFECTIVE DATES: Parties adversely affected by the Record of Decision have 30 days, from the date of publication of this notice, to file a Notice of Appeal in the office which issued this decision (43 CFR 4.413). The decision to grant the right-of-way is in full force and effect, effective on the date of signing of the Record of Decision. A petition for a stay of the decision must be filed in accordance with the above cited regulations.

ADDRESSES: A copy of the Record of Decision can be obtained from: Bureau of Land Management, Coos Bay District Office at Coos Bay District, BLM, 1300 Airport Lane, North Bend, OR 97459.

A notice of Appeal should be addressed to: Bureau of Land Management, Coos Bay District Office, 1300 Airport Lane, North Bend, OR 97459, with a copy to: Office of the Regional Solicitor, Kaiser Permanente Bldg. Suite 607, 500 Multnomah Street NE, Portland, OR 97232. A copy must also be sent to: Department of the Interior Board of Land Appeals, 4015 Wilson Blvd., Arlington, Virginia 22203.

FOR FURTHER INFORMATION CONTACT: Bob Gunther, Project Coordinator, at address above or telephone (541-751-4295), fax: 541-751-4303, or e-mail comments to the attention of Bob_Gunther@or.blm.gov.

Dated: July 31, 2002.
Mark E. Johnson,
Coos Bay Associate District Manager.

Note: This document was received at the Office of the Federal Register on February 21, 2003.

[FR Doc. 03-4496 Filed 2-25-03; 8:45 am]

BILLING CODE 4310-33-P